DEPARTMENT OF ENERGY

Federal Energy Regulatory Commission

[Docket No. CP04-355-000]

CenterPoint Energy Gas Transmission Company; Notice of Application

June 15, 2004.

Take notice that on June 7, 2004, CenterPoint Energy Gas Transmission Company (CEGT), 1111 Louisiana Street, Houston, Texas 77002-5231, filed in Docket No. CP04-355-000 an application pursuant to section 7(b) of the Natural Gas Act (NGA) for permission and approval to abandon, in place and by sale, certain facilities located in Caddo Parish, Louisiana. CEGT further requests a finding that the facilities to be sold to Moransco Energy Corporation (Moransco), the purchasing party, would be exempt from the Commission's jurisdiction when operated as part of Moransco's gathering system, all as more fully set forth in the application. This filing is available for review at the Commission in the Public Reference Room or may be viewed on the Commission's Web site at http://www.ferc.gov using the “e-Library” link. Enter the docket number excluding the last three digits in the docket number field to access the document. For assistance, please contact FERC Online at FERCOnlineSupport@ferc.gov or toll free, (866) 208-3676, or TTY, contact (202) 502-8659.

Any questions concerning this request may be directed to Lawrence O. Thomas, Director-Rates & Regulatory, CenterPoint Energy Gas Transmission Company, P.O. Box 21734, Shreveport, Louisiana 71151, or call (318) 429-2804.

Specifically, CEGT proposes to abandon its Line RM-1 and appurtenant facilities, and in conjunction with the proposed abandonment, sell an approximately 2-mile segment of Line RM-1 to Moransco, a local natural gas producer.

CEGT states that it is uneconomical for CEGT to continue to operate this segment of the Line RM-1. CEGT states further that the abandonment would have no material impact on CEGT's cost of service nor would it result in or cause any interruption, disruption, or termination of the transportation service presently rendered by CEGT.

There are two ways to become involved in the Commission's review of this project. First, any person wishing to obtain legal status by becoming a party to the proceedings for this project should file on or before the date listed below with the Federal Energy Regulatory Commission, 888 First Street, NE., Washington DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest. However, the non-party commenters will not receive copies of all documents filed by other parties or issued by the Commission (except for the mailing of environmental documents issued by the Commission) and will not have the right to seek court review of the Commission's final order.

Protests and interventions may be filed electronically via the Internet in lieu of paper; see 18 CFR 385.2001(a)(1)(iii) and the instructions on the Commission's Web site under the “e-Filing” link. The Commission strongly encourages electronic filings.

Comment Date: July 6, 2004.

Magalie R. Salas,
Secretary.

[FR Doc. E4-1389 Filed 6-22-04; 8:45 am]

BILLING CODE 6717-01-P